DEPARTMENT OF ENERGY

Federal Energy Regulatory Commission

Notice of Amendment of License and Soliciting Comments, Motions To Intervene, and Protests

September 6, 2000.

Take notice that the following application has been filed with the Commission and is available for public inspection.

a. Type of Application: Amendment of license for the non-project use of project lands and waters: to allow the City of Columbus Water Works (CWW) to increase its average daily withdrawal of water from Lake Oliver for domestic and industrial consumption in the Columbus, Georgia region.

b. Project No: 2177-041

c. Date Filed: August 24, 2000

d. Applicant: Georgia Power Company

e. Name of Project: Middle Chattahoochee Project

f. Location: Muscogee County, Georgia

g. Filed Pursuant to: Federal Power Act, 16 U.S.C. 791(a)-825(r)

h. Applicant Contact: Mr. Mike Phillips, Georgia Power Company, Bin 10151, 241 Ralph McGill Blvd. NE., Atlanta, GA 30308-3374, (404) 506-2392.

i. FERC Contact:Any questions on this notice should be addressed to Jim Haimes at (202) 219-2780, or e-mail address: james.haimes@ferc.fed.us

j. Deadline for filing comments and or motions: 30 days from the issuance date of this notice.

All documents (original and eight copies) should be filed with: David P. Boergers, Secretary, Federal Energy Regulatory Commission, 888 First Street, NE, Washington, DC 20426.

Please include the project number (P-2177-041) on any comments or motions filed.

k. Description of Project: Georgia Power Company (GPC), licenses, requests Commission authorization to permit the CWW to increase the rate of water withdrawal at its existing pumping station at Lake Oliver reservoir from 31.5 million gallons per day (MGD) currently to 90.0 MGD, which is equivalent to 140 cubic feet per second. Existing pumps at the site are able to accommodate this increased water withdrawal; consequently, the proposed action would not involve any land-disturbing or new construction activities on project lands. Further, GPC requests that the Commission allow the licensee to recover from CWW adequate compensation for the electric energy and capacity value lost to GPC's hydroelectric developments as a consequence of CWW's water withdrawals from Lake Oliver.

l. Locations of the application: Copies of the application are available for inspection and reproduction at the Commission's Public Reference Room, located at 888 First Street, NE, Room 2A, Washington, DC 20426, or by calling (202) 208-1371. The application also may be viewed on the Web at www.ferc.fed.us/online/rims.htm. Call (202) 208-2222 for assistance. Copies of the application also are available for inspection and reproduction at the addresses in item h above.

m. Individuals desiring to be included on the Commission's mailing list for the proposed amendment of license should so indicate by writing to the Secretary of the Commission.

Comments, Protests, or Motions to Intervene—Anyone may submit comments, a protest, or a motion to intervene in accordance with the requirements of Rules of Practice and Procedure, 18 CFR 385.210, .211, 214. In determining the appropriate action to take, the Commission will consider all protests or other comments filed, but only those who file a motion to intervene in accordance with the Commission's Rules may become a party to the proceeding. Any comments, protests, or motions to intervene must be received on or before the specified comment date for the particular application.

Filing and Service of Responsive Docments—Any filings must bear in all capital letters the title “COMMENTS,” “RECOMMENDATIONS FOR TERMS AND CONDITIONS,” “PROTEST,” OR “MOTION TO INTERVENE,” as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-23291 Filed 9-11-00; 8:45 am]

BILLING CODE 6717-01-M